DEPARTMENT OF ENERGY

Federal Energy Regulatory Commission

[Docket No. CP19-11-000]

Sabine Pass LNG, L.P.; Notice of Schedule for Environmental Review of the SPLNG Third Berth Expansion Project

On October 29, 2018, Sabine Pass LNG, L.P. (SPLNG) filed an application in Docket No. CP19-11-000 requesting authorization pursuant to section 3(a) of the Natural Gas Act to construct and operate certain liquefied natural gas (LNG) facilities in Sabine Pass, Louisiana. The proposed project is known as the SPLNG Third Birth Expansion Project (Project) and would include an expansion of the existing Sabine Pass LNG facility (Terminal), located in Cameron Parish, Louisiana on the Sabine Pass Channel.

On November 7, 2018, the Federal Energy Regulatory Commission (FERC or Commission) issued its Notice of Application for the Project. Among other things, that notice alerted agencies issuing federal authorizations of the requirement to complete all necessary reviews and to reach a final decision on the request for a federal authorization within 90 days of the date of issuance of the Commission staff's Environmental Assessment (EA) for the Project. This instant notice identifies the FERC staff's planned schedule for completion of the EA for the Project. The forecasted schedule for the EA is based upon SPLNG providing complete and timely responses to any data requests. In addition, the schedule assumes that the cooperating agencies will provide input on their areas of responsibility on a timely basis.

Schedule for Environmental Review

Issuance of EA: (August 23, 2019).

90-day Federal Authorization Decision Deadline: (November 21, 2019).

If a schedule change becomes necessary, additional notice will be provided so that the relevant agencies are kept informed of the Project's progress.

Project Description

The proposed expansion of the Terminal consists of the addition of a third marine berth (Third Berth) and supporting facilities. The Third Berth would be used to load LNG carriers for export and would be sized to accommodate vessels with a capacity of 125,000 cubic meters (m³) to 180,000 m³. The supporting facilities would include tie-ins to the existing Terminal loading lines and boil-off gas lines associated with the five existing LNG tanks. The Project would also include the addition of piping, piperacks, utilities, and other additional infrastructure to transport LNG to the Third Berth.

Background

On March 8, 2018, the Commission staff granted SPLNG's request to use the FERC's pre-filing environmental review process and assigned the Project Docket No. PF18-3-000. On April 20, 2018, the Commission issued a Notice of Intent to Prepare an Environmental Assessment for the Planned SPLNG Third Berth Expansion Project, and Request for Comments on Environmental Issues (NOI). The NOI was issued during the pre-filing review of the Project in Docket No. PF18-3-000 and was sent to federal, state, and local government agencies; elected officials; affected landowners; environmental and public interest groups; Native American tribes and regional organizations; commenters and other interested parties; and local libraries and newspapers. In response to the NOI, the Commission received comments from the U.S. Fish and Wildlife Service, the Louisiana Department of Wildlife and Fisheries, and the Choctaw Nation. The primary issues raised by the commenters include effects on threatened and endangered species, wetland mitigation, and water quality impacts. All substantive comments will be addressed in the EA.

The U.S. Department of Transportation Pipeline and Hazardous Materials Administration, U.S. Coast Guard, U.S. Army Corps of Engineers, U.S. Fish and Wildlife Service, Louisiana Department of Wildlife and Fisheries; U.S. Department of Energy, and U.S. Environmental Protection Agency are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP19-11), and follow the instructions. For assistance with access to eLibrary, the helpline can be reached at (866) 208-3676, TTY (202) 502-8659, or at FERCOnlineSupport@ferc.gov. The eLibrary link on the FERC website also provides access to the texts of formal documents issued by the Commission, such as orders, notices, and rulemakings.

Dated: December 18, 2018.
Kimberly D. Bose,
Secretary.

[FR Doc. 2018-27956 Filed 12-26-18; 8:45 am]

BILLING CODE 6717-01-P